DEPARTMENT OF JUSTICE

Notice of Lodging of Consent Decree Under the Clean Water Act

Pursuant to 28 CFR 50.7, notice is hereby given that on July 17, 2003, a proposed Consent Decree (“Consent Decree”) in United States v. South Haven Sewer Works, Inc., Civil Action No. 2:03 CV 290, was lodged with the United States District Court for the Northern District of Indiana.

The United States' complaint in this action asserts claims against South Haven Sewer Works, Ind. (“South Haven”) for injunctive relief and civil penalties for violations of the Clean Water Act, 33 U.S.C. 1251 et seq. (the “Act”), and a National Pollutant Discharge Elimination System Permit regulating discharges of pollutants into Salt Creek, from South Haven's privately owned wastewater treatment plant and sanitary sewer system in South Haven, Indiana.

The proposed Consent Decree requires South Haven to comply with the effluent limitations as well as all other requirements of South Haven's NPDES permit. In addition, the proposed Consent Decree requires South Haven to implement compliance measures valued at between $6 and $7 million, including: (i) Installation of monitoring and sampling devices and a standby power generator; (ii) construction of an improved outfall; (iii) identification and elimination of defects in the collection system and wastewater treatment plant that cause or contribute to bypasses and sanitary sewer overflows (“SSOs”); (iv) development and implementation or procedures for minimizing the impacts of SSOs on the environment and human health; and (v) development and implementation of a preventative maintenance program. The proposed Consent Decree also prohibits South Haven from accepting non-municipal waste and expanding its service area or sewer connections until it has met certain requirements. Under the proposed Consent Decree South Haven will also pay a civil penalty of $250,000.

The Department of Justice will receive for a period of thirty (30) days from the date of this publication comments relating to the proposed Consent Decree. Comments should be addressed to the Assistant Attorney General, Environment and Natural Resources Division, P.O. Box 7611, U.S. Department of Justice, Washington, DC 20044-7611, and should refer to United States v. South Haven Sewer Works, Inc., D.J. Ref. 90-5-1-1-06888.

The proposed Consent Decree may be examined at the Office of the United States Attorney, 5400 Federal Plaza, Suite 1500, Hammond, Indiana 46320, and at U.S. EPA Region 5, 77 West Jackson Boulevard, Chicago, IL 60604. During the public comment period, the proposed Consent Decree may also be examined on the following Department of Justice Web site: http://www.usdoj. gov/enrd/open.html. A copy of the proposed Consent Decree may also be obtained by mail from the Consent Decree Library, P.O. Box 7611, U.S. Department of Justice, Washington, DC 20044-7611 or by faxing or e-mailing a request to Tonia Fleetwood (tonia. fleetwood@usdoj.gov), fax no. (202) 514-0097, phone confirmation number (202) 514-1547. In requesting a copy, please enclose a check in the amount of $14.75 (25 cents per page reproduction cost) payable to the U.S. Treasury.

William D. Brighton,
Assistant Chief, Environmental Enforcement Section, Environment and Natural Resources Division.

[FR Doc. 03-19439 Filed 7-30-03; 8:45 am]

BILLING CODE 4410-15-M